DEPARTMENT OF TRANSPORTATION

Federal Aviation Administration

14 CFR Part 39

[Docket No. FAA-2025-0916; Project Identifier MCAI-2024-00119-R]

RIN 2120-AA64

Airworthiness Directives; Airbus Helicopters

AGENCY: Federal Aviation Administration (FAA), DOT.

ACTION: Notice of proposed rulemaking (NPRM).

SUMMARY: The FAA proposes to supersede Airworthiness Directive (AD) 2024-10-13, which applies to all Airbus Helicopters Model AS332C, AS332C1, AS332L, AS 332L1, AS 332L2, and EC 225LP helicopters. AD 2024-10-13 requires visually inspecting the bowls of the left-hand (LH) and right-hand (RH) fuel filters for any cracks and seepage. Depending on the inspection results, AD 2024-10-13 requires removing an affected fuel filter from service and replacing that part. AD 2024-10-13 also allows a certain fuel filter to be installed on any helicopter if certain actions are accomplished. Since the FAA issued AD 2024-10-13, additional inspection criteria was developed. This proposed AD would require the same actions as AD 2024-10-13 but would remove some helicopters from the applicability, add an inspection of the inner surface of the fuel filter bowls, and revise the tightening torque. The FAA is proposing this AD to address the unsafe condition on these products.

DATES: The FAA must receive comments on this NPRM by July 17, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0916; or in person at Docket Operations between 9 a.m. and 5 p.m., Monday through Friday, except Federal holidays. The AD docket contains this NPRM, the mandatory continuing airworthiness information (MCAI) any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find this material on the EASA website at ad.easa.europa.eu. It is also available at regulations.gov under Docket No. FAA-2025-0916.

• You may view this material at the FAA, Office of the Regional Counsel, Southwest Region, 10101 Hillwood Parkway, Room 6N-321, Fort Worth, TX 76177. For information on the availability of this material at the FAA, call (817) 222-5110.

FOR FURTHER INFORMATION CONTACT: Deep Gaurav, Aviation Safety Engineer, FAA, 1600 Stewart Avenue, Suite 410, Westbury, NY 11590; phone: (817) 228-3731; email: deep.gaurav@faa.gov.

SUPPLEMENTARY INFORMATION:

Comments Invited

The FAA invites you to send any written relevant data, views, or arguments about this proposal. Send your comments using a method listed under the ADDRESSES section. Include “Docket No. FAA-2025-0916; Project Identifier MCAI-2024-00119-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Deep Gaurav, Aviation Safety Engineer, FAA, 1600 Stewart Avenue, Suite 410, Westbury, NY 11590. Any commentary that the FAA receives which is not specifically designated as CBI will be placed in the public docket for this rulemaking.

Background

The FAA issued AD 2024-10-13, Amendment 39-22759 (89 FR 56189, July 9, 2024) (AD 2024-10-13), for all Airbus Helicopters Model AS332C, AS332C1, AS332L, AS 332L1, AS 332L2, and EC 225LP helicopters. AD 2024-10-13 was prompted by MCAI originated by EASA, which is the Technical Agent for the Member States of the European Union. EASA issued AD 2023-0095, dated May 8, 2023 (EASA AD 2023-0095), to address cracks on the fuel filter bowls due to over-torquing.

AD 2024-10-13 requires visually inspecting the bowls of the LH and RH fuel filters for cracks and seepage and, depending on the inspection results, removing an affected fuel filter from service and replacing that part. AD 2024-10-13 also allows certain fuel filters to be installed on a helicopter if certain actions are accomplished. The FAA issued AD 2024-10-13 to prevent failure of the bowl, in-flight shutdown, and subsequent reduced control of the helicopter.

Actions Since AD 2024-10-13 Was Issued

Since the FAA issued AD 2024-10-13, EASA superseded EASA AD 2023-0095 and issued EASA AD 2024-0045, dated February 16, 2024 (EASA AD 2024-0045) (also referred to as “the MCAI”). The MCAI states new cases of fuel filter cracks were reported on helicopters that had been inspected as required by EASA AD 2023-0095. The new cracks were located on the inner surface of the fuel filter bowls and likely resulted from excessive bowl tightening torque. Following an investigation, Airbus Helicopters expanded the scope of the inspection of the fuel filters to include the inner surface of the bowls and revised the tightening torque. This condition, if not addressed, could result in failure of the fuel filter bowl, in-flight shutdown of both engines, and consequent reduced control of the helicopter.

The FAA is proposing this AD to address the unsafe condition on these products.

You may examine the MCAI in the AD docket at regulations.gov under Docket No. FAA-2025-0916.

Material Incorporated by Reference Under 1 CFR Part 51

The FAA reviewed EASA AD 2024-0045, which species procedures for a one-time inspection of the outer and inner surfaces of the bowls of the LH and RH fuel filters for cracks and seepage. Depending on the inspection results, EASA AD 2024-0045 specifies procedures for replacing an affected part with a serviceable part. EASA AD 2024-0045 allows credit for the inspection for certain helicopters and also allows certain fuel filters to be installed on a helicopter if they have been inspected and no defects found.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require the same actions as AD 2024-10-13 but would remove some helicopters from the applicability, add an inspection of the inner surface of the fuel filter bowls, and revise the tightening torque. This proposed AD would require accomplishing the actions specified in EASA AD 2024-0045, described previously, as incorporated by reference, except for any differences identified as exceptions in the regulatory text of this proposed AD. See “Differences Between this AD and the MCAI” for a general discussion of these differences.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0045 by reference in the FAA final rule. This proposed AD would, therefore, require compliance with EASA AD 2024-0045 in its entirety through that incorporation, except for any differences identified as exceptions in the regulatory text of this proposed AD. Using common terms that are the same as the heading of a particular section in EASA AD 2024-0045 does not mean that operators need comply only with that section. For example, where the AD requirement refers to “all required actions and compliance times,” compliance with this AD requirement is not limited to the section titled “Required Action(s) and Compliance Time(s)” in EASA AD 2024-0045. Material referenced in EASA AD 2024-0045 for compliance will be available at regulations.gov under Docket No. FAA-2025-0916 after the FAA final rule is published.

Differences Between This Proposed AD and the MCAI

Where the MCAI applies to helicopters delivered before February 15, 2024, this proposed AD would apply to helicopters with fuel filter part number 4020P25-5 or 704A44620049 installed and with an original airworthiness certificate or original export certificate of airworthiness issued before February 15, 2024.

Costs of Compliance

The FAA estimates that this AD, if adopted as proposed, would affect 20 helicopters of U.S. registry. Labor rates are estimated at $85 per hour. Based on these numbers, the FAA estimates the following costs to comply with this proposed AD.

Inspecting the fuel filter bowls (two bowls per helicopter) for cracks and seepage would take 2 work-hours and not require any parts, for an estimated cost of $170 per helicopter and $3,400 for the U.S. fleet.

Replacing a fuel filter would take 2 work-hours and parts would cost $6,290 for an estimated cost of $6,460 per fuel filter replacement.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2024-10-13, Amendment 39-22759 (89 FR 56189, July 9, 2024); and

b. Adding the following new airworthiness directive:

Airbus Helicopters: Docket No. FAA-2025-0916; Project Identifier MCAI-2024-00119-R.

(a) Comments Due Date

The FAA must receive comments on this airworthiness directive (AD) by July 17, 2025.

(b) Affected ADs

This AD replaces AD 2024-10-13, Amendment 39-22759 (89 FR 56189, July 9, 2024).

(c) Applicability

This AD applies to Airbus Helicopters Model AS332C, AS332C1, AS332L, AS 332L1, AS 332L2, and EC 225LP helicopters, certificated in any category, with fuel filter part number 4020P25-5 or 704A44620049 installed and with an original airworthiness certificate or original export certificate of airworthiness issued before February 15, 2024.

(d) Subject

Joint Aircraft System Component (JASC) Code 2821, Aircraft fuel filter/strainer.

(e) Unsafe Condition

This AD was prompted by reports of cracks on the fuel filter bowl (bowl) due to over-torquing. The FAA is issuing this AD to inspect for cracks and seepage on the bowl of the left-hand (LH) and right-hand (RH) fuel filter. The unsafe condition, if not addressed, could result in failure of the fuel filter bowl, in-flight shutdown of both engines, and consequent reduced control of the helicopter.

(f) Compliance

Comply with this AD within the compliance times specified, unless already done.

(g) Requirements

Except as specified in paragraphs (h) and (i) of this AD: Comply with all required actions and compliance times specified in, and in accordance with, European Union Aviation Safety Agency (EASA) AD 2024-0045, dated February 16, 2024 (EASA AD 2024-0045).

(h) Exceptions to EASA AD 2024-0045

(1) Where EASA AD 2024-0045 requires compliance in terms of flight hours, this AD requires using hours time-in-service.

(2) Where EASA AD 2024-0045 refers to its effective date, this AD requires using the effective date of this AD.

(3) Where paragraph (2) of EASA AD 2024-0045 states “any discrepancy, as defined in the ASB”, for this AD replace that text with “any crack or seepage”.

(4) Where paragraph (2) of EASA AD 2024-0045 specifies “replace the affected part with a serviceable part in accordance with the instructions of the applicable ASB”, this AD requires replacing that text with “remove the affected part from service and replace it with a serviceable part”.

(5) Where the material referenced in EASA AD 2024-0045 uses the term “check”, this AD requires replacing that term with “inspection”.

(6) Where the material referenced in EASA AD 2024-0045 specifies discarding parts, this AD requires removing those parts from service.

(7) Where the material referenced in EASA AD 2024-0045 specifies actions for non-installed equipment or parts, this AD does not require those actions.

(8) This AD does not adopt the Remarks section of EASA AD 2024-0045.

(i) No Reporting or Returning Parts Requirement

Although the material referenced in EASA AD 2024-0045 specifies to submit certain information and return parts to the manufacturer, this AD does not require those actions.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the responsible Flight Standards Office.

(l) Additional Information

For more information about this AD, contact Deep Gaurav, Aviation Safety Engineer, FAA, 1600 Stewart Avenue, Suite 410, Westbury, NY 11590; phone: (817) 228-3731; email: deep.gaurav@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0045, dated February 16, 2024.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at FAA Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 22, 2025.
Steven W. Thompson,
Acting Deputy Director, Compliance & Airworthiness Division, Aircraft Certification Service.

[FR Doc. 2025-09892 Filed 5-30-25; 8:45 am]

BILLING CODE 4910-13-P